DEPARTMENT OF HOMELAND SECURITY

U.S. Customs and Border Protection

[CBP Dec. 10-02]

Recordation of Trade Name “Sony Ericsson Mobile Communications AB”

AGENCY: Customs and Border Protection, Department of Homeland Security.

ACTION: Notice of final action.

SUMMARY: This document gives notice that “Sony Ericsson Mobile Communications AB” has been recorded with CBP as a trade name by Sony Ericsson Mobile Communications AB.

The application for trade name recordation was properly submitted to Customs and Border Protection (CBP) and published in the Federal Register. As no public comments in opposition to the recordation of this trade name were received by CBP within the 60-day comment period, the trade name has been duly recorded with CBP and will remain in force as long as this trade name is in use by this manufacturer, unless the recordant requests cancellation of the recordation or any other provision of the law so requires.

DATES: Effective Date: January 25, 2010.

FOR FURTHER INFORMATION CONTACT: Suzanne E. Kane, Attorney-Advisor, Intellectual Property Rights & Restricted Merchandise Branch, at (202) 325-0119.

SUPPLEMENTARY INFORMATION: Trade names that are being used by manufacturers or traders may be recorded with CBP to afford the particular business entity with increased commercial protection. CBP procedures for recording trade names are provided at § 133.11 et seq. of the CBP Regulations (19 CFR 133.11 et seq.). Pursuant to these regulations, Sony Ericsson Mobile Communications AB applied to CBP for protection of its trade name, Sony Ericsson Mobile Communications AB.

On Tuesday, November 10, 2009, CBP published a notice of application for the recordation of the trade name “Sony Ericsson Mobile Communications AB” in the Federal Register (74 FR 58042). The notice advised that before final action would be taken on the application, consideration would be given to any relevant data, views, or arguments submitted in writing in opposition of the recordation of this trade name. The closing day for the comment period was January 11, 2010.

At the end of the comment period, January 11, 2010, no comments were received. Accordingly, as provided by § 133.14 of the CBP Regulations, “Sony Ericsson Mobile Communications AB” is recorded with CBP as the trade name used by the manufacturer, Sony Ericsson Mobile Communications AB, and will remain in force as long as this trade name is in use by this manufacturer unless the recordant requests cancellation of the recordation or any other provision of the law so requires.

Dated: January 15, 2010.
Charles R. Steuart,
Chief, Intellectual Property Rights & Restricted Merchandise Branch.

[FR Doc. 2010-1280 Filed 1-22-10; 8:45 am]

BILLING CODE P